DEPARTMENT OF TRANSPORTATION

Federal Motor Carrier Safety Administration

[Docket No. FMCSA-2012-0032]

Commercial Driver's License Standards: Application for Exemption; Daimler Trucks North America, LLC (Daimler)

AGENCY: Federal Motor Carrier Safety Administration (FMCSA), Department of Transportation (DOT).

ACTION: Notice of application for exemption; request for comments.

SUMMARY: FMCSA announces that Daimler Trucks North America, LLC (Daimler) has requested an exemption from the commercial driver's license (CDL) requirements for one of its drivers, Gesa Reimelt. Daimler also requested an exemption for the same driver from the requirement to register CDL holders in the Drug and Alcohol Clearinghouse (Clearinghouse). Ms. Reimelt has a valid German commercial license and will test drive Daimler vehicles on U.S. roads to better understand product requirements in “real world” environments and verify results. Daimler believes that the requirements for a German commercial license ensure that the same level of safety is met or exceeded as if this driver had a U.S. CDL.

DATES: Comments must be received on or before September 20, 2021.

ADDRESSES: You may submit comments identified by Federal Docket Management System Number FMCSA-2012-0032 by any of the following methods:

• Federal eRulemaking Portal: www.regulations.gov. See the Public Participation and Request for Comments section below for further information.

• Mail: Docket Operations, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m. E.T., Monday through Friday, except Federal holidays.

• Fax: 1-202-493-2251.

Each submission must include the Agency name and the docket number for this notice (FMCSA-2012-0032). Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC 20590-0001 between 9 a.m. and 5 p.m., ET, Monday through Friday, except Federal holidays. To be sure someone is there to help you, please call (202) 366-9317 or (202) 366-9826 before visiting Docket Operations.

Privacy Act: In accordance with 5 U.S.C. 553(c), DOT solicits comments from the public to better inform its regulatory process. DOT posts these comments, without edit, including any personal information the commenter provides, to www.regulations.gov, as described in the system of records notice (DOT/ALL-14 FDMS), which can be reviewed at www.dot.gov/privacy.

FOR FURTHER INFORMATION CONTACT: Mr. Richard Clemente, FMCSA Driver and Carrier Operations Division; Office of Carrier, Driver and Vehicle Safety Standards; 202-366-2722. MCPSD@dot.gov. If you have questions on viewing or submitting material to the docket, contact Docket Operations, (202) 366-9826.

SUPPLEMENTARY INFORMATION:

I. Public Participation and Request for Comments

FMCSA encourages you to participate by submitting comments and related materials.

Submitting Comments

If you submit a comment, please include the docket number for this notice (FMCSA-2012-0032), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number, “FMCSA-2012-0032” in the “Search” box, and click “Search.” When the new screen appears, click on “Documents” button, then click the “Comment” button associated with the latest notice posted. Another screen will appear, insert the required information. Choose whether you are submitting your comment as an individual, an organization, or anonymous. Click “Submit Comment”.

If you submit your comments by mail or hand delivery, submit them in an unbound format, no larger than 8½ by 11 inches, suitable for copying and electronic filing. If you submit comments by mail and would like to know that they reached the facility, please enclose a stamped, self-addressed postcard or envelope. FMCSA will consider all comments and materials received during the comment period.

II. Legal Basis

FMCSA has authority under 49 U.S.C. 31136(e) and 31315 to grant exemptions from certain Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period (up to 5 years) and explain the terms and conditions of the exemption. The exemption may be renewed (49 CFR 381.300(b)).

III. Background

Current Regulation(s) Requirements

Under 49 CFR 383.23, no person shall operate a commercial motor vehicle (CMV) unless such person has taken and passed the knowledge and driving skills tests for a commercial learner's permit or CDL that meet the Federal standards in subparts F, G, and H of part 383 for the CMV that person operates or expects to operate. The Clearinghouse maintains records of all drug and alcohol program violations in a central repository and requires that employers query the system to determine whether current and prospective employees have verified drug or alcohol violations that would prohibit them from performing safety-sensitive functions under the FMCSA and U.S. Department of Transportation drug and alcohol testing regulations.

Applicant's Request

Daimler has requested an exemption from 49 CFR 383.23 for Gesa Reimelt, because she is unable to obtain a CDL due to her lack of residency in the United States. Daimler further requested an exemption for the driver from the Clearinghouse requirements of 49 CFR part 382, subpart G, stating that, for a driver to register and for a motor carrier to run full/limited queries and/or report violations to the Clearinghouse, a valid State-issued CDL number is required.

Daimler's Development Engineer/Driver Gesa Reimelt has a valid German commercial license. The exemption would allow Ms. Reimelt to operate a CMV in interstate commerce to support Daimler field tests to meet future regulatory requirements, and to promote the development of improved safety and emissions technologies. Daimler stated that the driver would be in country for no more than six weeks per year.

IV. Equivalent Level of Safety

According to Daimler, the requirements for a German commercial license ensure that the same level of safety is met or exceeded as if a driver had a CDL issued by one of the States. Daimler explained that Ms. Reimelt is familiar with the operation of CMVs worldwide and would be accompanied at all times by a driver who holds a State-issued CDL and is familiar with the routes to be traveled. Additionally, Daimler provided statements of driving history for its driver.

V. Request for Comments

In accordance with 49 U.S.C. 31315(b), FMCSA requests public comment from all interested persons on Daimler's application for an exemption from 49 CFR 383.23. The Agency is not seeking comment on Daimler's request for an exemption from the Clearinghouse requirements, because 49 CFR part 382, subpart G is not applicable to a driver who does not hold a CDL. All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2021-17789 Filed 8-18-21; 8:45 am]

BILLING CODE 4910-EX-P